DEPARTMENT OF HOMELAND SECURITY

Federal Law Enforcement Training Center

[Docket No. FLETC-2008-0001]

State and Local Training Advisory Committee

AGENCY: Federal Law Enforcement Training Center (FLETC), DHS.

ACTION: Committee Management; Notice of Federal Advisory Committee Meeting.

SUMMARY: On April 9, 2008, the Federal Law Enforcement Training Center announced in the Federal Register at 69 FR 19233 that the State and Local Training Advisory Committee would meet on April 17, 2008, in Jekyll Island, Georgia. This notice supplements that original meeting notice.

DATES: The State and Local Advisory Committee meeting met on April 17, 2008, from 8 a.m. to 3 p.m.

ADDRESSES: The meeting was held at the Jekyll Island Club Hotel, 371 Riverview Drive, Jekyll Island, Georgia.

FOR FURTHER INFORMATION CONTACT: Reba Fischer, Designated Federal Officer, Federal Law Enforcement Training Center, Department of Homeland Security, 1131 Chapel Crossing Road, Townhouse 396, Glynco, GA 31524; (912) 267-2343; reba.fischer@dhs.gov.

SUPPLEMENTARY INFORMATION: Notice of this meeting is given under the Federal Advisory Committee Act, 5 U.S.C. App. (Pub. L. 92-463). The mission of the Advisory Committee to the Office of State and Local Training is to advise and make recommendations on matters relating to the selection, development, content and delivery of training services by the OSL/FLETC to its State, local, campus, and tribal law enforcement customers.

The State and Local Advisory Committee met for the purpose of discussing strategic planning; training needs of state, local, campus, and tribal law enforcement officers; validation of training; and training initiatives. The meeting was open to the public.

The Federal Advisory Committee Act requires that notices of meetings of advisory committees be announced in the Federal Register 15 days prior to the meeting date. A notice of the meeting of the State and Local Advisory Committee was published in the Federal Register on April 9, 2008, 8 days prior to the meeting due to a mail delivery delay (overnight mail delayed for 6 days). Although the meeting notice was published in the Federal Register late, the Federal Law Enforcement Training Center made notice of the meeting in sufficient time for planning purposes to the state and local law enforcement sector via FLETC's notification system and to the public via the Federal Advisory Committee Act Database (http://www.fido.gov/facadatabase).

Dated: April 10, 2008.
Malcolm Adams,
Acting Deputy Assistant Director, Office of State and Local Training.

[FR Doc. E8-9124 Filed 4-24-08; 8:45 am]

BILLING CODE 4810-32-P